DEPARTMENT OF HEALTH AND HUMAN SERVICES

National Institutes of Health

National Institutes of Arthritis and Musculoskeletal and Skin Diseases; Amended Notice of Meeting

Notice is hereby given of a change in the meeting of the National Institute of Arthritis and Musculoskeletal and Skin Diseases Special Emphasis Panel, April 11, 2001, 9 a.m. to April 11, 2001, 3 p.m. Holiday Inn—Chevy Chase, 5520 Wisconsin Avenue, Chevy Chase, MD 20815 which was published in the Federal Register on March 5, 2001, 66 FR 15125-15126,

The meeting will be held April 17, 2001 at the Holiday Inn Chevy Chase, 9 a.m. to 3 p.m. instead of April 11, 2001, as previously advertised. The meeting is closed to the public.

Dated: March 19, 2001.
LaVerne Y. Stringfield,
Director, Office of Federal Advisory Committee Policy.

[FR Doc. 01-7475 Filed 3-26-01; 8:45 am]

BILLING CODE 4140-01-M